DEPARTMENT OF THE INTERIOR

National Park Service

[N6510; NPS-WASO-NAGPRA-NPS0041055; PPWOCRADN0-PCU00RP14.R50000]

Notice of Intended Repatriation: University of Tennessee, McClung Museum of Natural History & Culture, Knoxville, TN

AGENCY: National Park Service, Interior.

ACTION: Notice.

SUMMARY: In accordance with the Native American Graves Protection and Repatriation Act (NAGPRA), the University of Tennessee, McClung Museum of Natural History & Culture (UTK) intends to repatriate a certain cultural item that meets the definition of an object of cultural patrimony and that has a cultural affiliation with the Indian Tribes or Native Hawaiian organizations in this notice.

DATES: Repatriation of the cultural item in this notice may occur on or after October 14, 2025.

ADDRESSES: Send additional, written requests for repatriation of the cultural item in this notice to Dr. Ellen Lofaro, University of Tennessee, Office of Repatriation, 5723 Middlebrook Pike, Knoxville, TN 37921-6053, email nagpra@utk.edu.

SUPPLEMENTARY INFORMATION: This notice is published as part of the National Park Service's administrative responsibilities under NAGPRA. The determinations in this notice are the sole responsibility of UTK, and additional information on the determinations in this notice, including the results of consultation, can be found in the summary or related records. The National Park Service is not responsible for the determinations in this notice.

Abstract of Information Available

A total of one cultural item has been requested for repatriation by the Fort Independence Indian Community of Paiute Indians of the Fort Independence Reservation, California. The one object of cultural patrimony is a handmade waterfowl decoy. Records indicate the decoy present at UTK is one of six made by a Paiute artist and is similar in style to others recovered from Lovelock Cave, NV. The McClung Museum acquired one of these six decoys from a donor in 2003. This donor acquired the decoy in a `trade' with another collector based in Pullman, WA at an unknown date prior to 1975. Lovelock Cave is located in Churchill County, NV and is part of the ancestral homelands of the Fort Independence Indian Community of Paiute Indians of the Fort Independence Reservation, California. The duck decoy present at UTK was made with materials and a construction style similar to other objects of Cultural Patrimony belonging to the Fort Independence Indian Community of Paiute Indians of the Fort Independence Reservation, California. UTK has not identified any known hazardous substances from available records and will use non-invasive testing methods to confirm this as directed by the requestor.

Statement From Sean Scruggs, Tribal Historic Preservation Officer for the Fort Independence Indian Reservation in Eastern California

Archaeologists, ethnographers and educational institutions continue to classify Native Americans as “prehistoric” or “hunters and gatherers”. Propagation of these labels continue to marginalize the value of our ancestors and diminishes the ability of Tribes to “own” their place in history. Collections and looting have created the need for mechanisms such as the Native American Graves Protection and Repatriation Act (NAGPRA) to serve as a process to return cultural items to their homes. It is also a process that puts all those involved at emotional, spiritual and physical risk.

The repatriation process is a time for Tribes to exercise Cultural Sovereignty. It is an opportunity to reclaim our history that ethnographers, institutions, and archaeologists have appropriated and taken away from our people. It is also a forum to teach people about the effects of generational trauma that has occurred as a result of genocide, colonization, assimilation and the long-lasting effects of industrialization.

All of these eras have worked to erase and dilute tribal histories and cultures. Resilience has brought us to a point in time when we can bring ancestors and cultural items home in an attempt to restore balance and heal past wounds. Cultural Patrimony provides the construct necessary for Tribes to make their own determination about the significance of cultural items held in collections.

As the Tribal Historic Preservation Officer for the Fort Independence Indian Reservation in Eastern California it is an honor to work towards restoring my ancestral history by bringing cultural items home to my valley and people.

The decoy duck being repatriated speaks to a conversation of sophisticated craftmanship, thoughtful hunting skill, selection and harvesting of materials, and a special relationship with the Traditional Cultural Landscape. The decoy duck is also a powerful story of generational knowledge that has been handed down and shared with generations of people who lived in harmony with land in order to ensure generational survival.

The University of Tennessee, Knoxville NAGPRA Coordinator Kelsey Nordine and Ellen Lofaro deserve special recognition for their attention to detail, exemplary respect and responsiveness during this difficult process. Their professionalism and care cannot be overstated.

Determinations

UTK has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a connection between the cultural item described in this notice and the Fort Independence Indian Community of Paiute Indians of the Fort Independence Reservation, California.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 14, 2025. If competing requests for repatriation are received, UTK must determine the most appropriate requestor prior to repatriation. Requests for joint repatriation of the cultural item are considered a single request and not competing requests. UTK is responsible for sending a copy of this notice to the Indian Tribes and Native Hawaiian organizations identified in this notice and to any other consulting parties.

Authority: Native American Graves Protection and Repatriation Act, 25 U.S.C. 3004 and the implementing regulations, 43 CFR 10.9.

Dated: August 29, 2025.
Melanie O'Brien,
Manager, National NAGPRA Program.

[FR Doc. 2025-17614 Filed 9-11-25; 8:45 am]

BILLING CODE 4312-52-P